COMMITTEE FOR PURCHASE FROM PEOPLE WHO ARE BLIND OR SEVERELY DISABLED

Procurement List; Proposed Addition and Deletions

ACTION: Proposed addition to and deletions from the procurement list.

SUMMARY: The Committee is proposing to add to the Procurement List a service to be furnished by nonprofit agencies employing persons who are blind or have other severe disabilities, and to delete products previously furnished by such agencies.

Comments Must be Received on or Before: September 16, 2007.

ADDRESSES: Committee for Purchase From People Who Are Blind or Severely Disabled, Jefferson Plaza 2, Suite 10800, 1421 Jefferson Davis Highway, Arlington, Virginia, 22202-3259.

For Further Information or to Submit Comments Contact: Kimberly M. Zeich, Telephone: (703) 603-7740, Fax: (703) 603-0655, or e-mail CMTEFedReg@jwod.gov.

SUPPLEMENTARY INFORMATION: This notice is published pursuant to 41 U.S.C. 47(a)(2) and 41 CFR 51-2.3. Its purpose is to provide interested persons an opportunity to submit comments on the proposed actions.

Addition

If the Committee approves the proposed addition, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the service proposed for addition to the Procurement List.

Comments on this certification are invited. Commenters should identify the statement(s) underlying the certification on which they are providing additional information.

End of Certification

The following service is proposed for addition to Procurement List for production by the nonprofit agencies listed:

Service

Service Type/Location: Grounds Maintenance, U.S. Department of Agriculture—Agriculture Research Service, Southeastern Fruit & Tree Nut Research Laboratory (SEFTNRL), 21 Dunbar Road, Byron, GA.

NPA: NAMI-Central Georgia, Inc., Warner Robins, GA.

Contracting Activity: U.S. Department of Agriculture, Agriculture Research Service SAA Athens, GA.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

NSN: 8910-01-E60-8830—Cottage Cheese, Dehydrated—#10 cans.

NSN: 8910-01-E60-8831—Whole Egg Crystals—1.75 pound bags.

NPA: Advocacy and Resources Corporation, Cookeville, TN.

Pillowcase, Cotton/Cotton Polyester

NSN: 7210-00-119-7356.

NPA: Alabama Industries for the Blind, Talladega, AL.

NPA: The Lighthouse f/t Blind in New Orleans, New Orleans, LA.

Contracting Activity: Defense Supply Center Philadelphia, Philadelphia, PA.

Metal Strip, Bag Tie, Plain

NSN: 8135-00-846-8409.

NPA: United Cerebral Palsy of Broward County, Inc., Ft. Lauderdale, FL.

Refill Pen, Rollerball, Executive

NSN: 7510-01-425-5710.

NPA: San Antonio Lighthouse for the Blind, San Antonio, TX.

Contracting Activity: General Services Administration, Office Supplies & Paper Products Acquisition Ctr, New York, NY.

Kimberly M. Zeich,
Director, Program Operations.

[FR Doc. E7-16220 Filed 8-16-07; 8:45 am]

BILLING CODE 6353-01-P